DEPARTMENT OF DEFENSE

Office of the Secretary

Privacy Act of 1974; System of Records

AGENCY: Office of the Inspector General, DoD.

ACTION: Notice to amend systems of records.

SUMMARY: The Office of the Inspector General (OIG) is amending a system of records notice in its existing inventory of record systems subject to the Privacy Act of 1974 (5 U.S.C. 552a), as amended.

DATES: This proposed action will be effective without further notice on March 15, 2006 unless comments are received which result in a contrary determination.

ADDRESSES: Send comments to Chief, FOIA/PA Office, Inspector General, Department of Defense, 400 Army-Navy Drive, Room 201, Arlington, VA 22202-4704.

FOR FURTHER INFORMATION CONTACT: Mr. Darryl R. Aaron at (703) 604-9785.

SUPPLEMENTARY INFORMATION: The Office of the Inspector General (OIG) systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: February 7, 2006.
L.M. Bynum,
OSD Federal Register Liaison Officer, Department of Defense.

CIG-01

System name:

Privacy Act and Freedom of Information Act Case Files (June 16, 2003, 68 FR 35636).

Changes:

* * * * *

System location:

Delete entry and replace with: “Freedom of Information Act and Privacy Act Office, Assistant Inspector General for Communications and Congressional Liaison, Office of the Inspector General of the Department of Defense, 400 Army Navy Drive, Arlington, VA 22202-4704.”

* * * * *

Authority for maintenance of the system:

Delete entry and replace with: “5 U.S.C. 301, Departmental Regulations; 5 U.S.C. 552a, as amended; DoD 5400.11-R, Department of Defense Privacy Program; 5 U.S.C. 552, The Freedom of Information Act, as amended; DoD 5400.7-R, DoD Freedom of Information Act Program; DoD IG Instruction 5400.7; and DoD IG Instruction 5400.7; and DoD IG Instruction 5400.11.”

* * * * *

System manager(s) and address:

Delete entry and replace with: “Chief, Freedom of Information Act and Privacy Act Office, Assistant Inspector General for Communications and Congressional Liaison, Office of the Inspector General, DoD, 400 Army Navy Drive, Arlington, VA 22202-4704.”

* * * * *

Notification procedure:

Delete first paragraph and replace with: “Individuals seeking to determine whether information about themselves is contained in this system should address written inquiries to the Chief, Freedom of Information Act and Privacy Act Office, Assistant Inspector General for Communications and Congressional Liaison, Office of the Inspector General DoD, 400 Army Navy Drive, Arlington, VA 22202-4704.”

* * * * *

Record access procedures:

Delete first paragraph and replace with: “Individuals seeking access to information about themselves contained in this system should address written inquiries to the Chief, Freedom of Information Act and Privacy Act Office, Assistant Inspector General for Communications and Congressional Liaison, Office of the Inspector General and Congressional Liaison, Office of the Inspector General, DoD, 400 Army Navy Drive, Arlington, VA 22202-4704.”

* * * * *

CIG-01

System name:

Privacy Act and Freedom of Information Act Case Files.

System location:

Freedom of Information Act and Privacy Act Office, Assistant Inspector General for Communications and Congressional Liaison, Office of the Inspector General of the Department of Defense, 400 Army Navy Drive, Arlington, VA 22202-4704.

Categories of individuals covered by the system:

All individuals who submit Freedom of Information Act (FOIA) and Privacy Act (PA) requests and administrative appeals to the Office of the Inspector General (OIG), DoD and other activities receiving administrative FOIA and Privacy Act support from the OIG; individuals whose FOIA and Privacy Act support from the OIG; individuals whose FOIA and Privacy Act requests and/or records have been referred by other Federal agencies to the OIG for release to the requester; attorneys representing individuals submitting such requests and appeals, individuals who are the subject of such requests and appeals, and/or the OIG personnel assigned to handle such requests and appeals.

Categories of records in the system:

Records created or compiled in response to FOIA and Privacy Act requests and administrative appeals, i.e., original requests and administrative appeals; responses to such requests and administrative appeals; all related memoranda, correspondence, notes, and other related or supporting documentation; and copies of requested records and records under administrative appeal.

Authority for maintenance of the system:

5 U.S.C. 301, Departmental Regulation; 5 U.S.C. 552, as amended; DoD 5400.11-R, Department of Defense Privacy Program; 5 U.S.C. 552, The Freedom of Information Act, as amended; DoD 5400.7-R, DoD Freedom of Information Act Program; DoD IG Instruction 5400.7; and DoD IG Instruction 5400.11.

Purpose(s):

Information is being collected and maintained for the purpose of processing FOIA and Privacy Act requests and administrative appeals; for participating in litigation regarding agency action on such requests and appeals; for amendment to records made under the Privacy Act and to document OIG actions in response to these requests; and for assisting the Office of the Inspector General, DoD in carrying out any other responsibilities under the FOIA.

Also, information may be provided to the appropriate OIG element when further action is needed to verify assertions of the requester or to obtain permission to release information obtained from sources.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information from this system may be provided to other Federal agencies and state and local agencies when it is necessary to coordinate responses or denials.

The DoD ‘Blanket Routine Uses' set forth at the beginning of the OIG's compilation of systems of records notices also apply to this system.

Policies and practices for storing, retrieving, accessing, retaining, and disposing of records in the system:

Storage:

Paper records in file folders and on electronic storage media.

Retrievability:

Retrieved by individual's name, subject matter, date of document, and request number.

Safeguards:

Records are stored in locked security containers accessible only to authorized personnel.

Retention and disposal:

FOIA and Privacy Act paper records that are granted in full are destroyed 2 years after the date of reply. Paper records that are denied in whole or in part, no records responses, responses to requesters who do not adequately describe records being sought, do not state a willingness to pay fees, and records which are appealed or litigated, are destroyed 6 years after final FOIA action and 5 years after final Privacy Act action, or three years after final adjudication by courts, whichever is later. Electronic records are deleted within 180 days or when no longer needed to support office business needs.

System manager(s) and address:

Chief, Freedom of Information Act and Privacy Act Office, Assistant Inspector General for Communications and Congressional Liaison, Office of the Inspector General, DoD, 400 Army Navy Drive, Arlington, VA 22202-4704.

Notification procedure:

Individuals seeking to determine whether information about themselves is contained in this system should address written inquiries to the Chief, Freedom of Information Act and Privacy Act Office, Assistant Inspector General for Communications and Congressional Liaison, Office of the Inspector General, DoD, 400 Army Navy Drive, Arlington, VA 22202-4704.

Please include full information regarding the previous request such as date, subject matter, and if available, copies of the previous OIG reply.

Record access procedures:

Individuals seeking access to information about themselves contained in this system should address written inquiries to the Chief, Freedom of Information Act and Privacy Act Office, Assistant Inspector General for Communications and Congressional Liaison, Office of the Inspector General, DoD, 400 Army Navy Drive, Arlington, VA 22202-4704.

Please include full information regarding the previous request such as date, subject matter, and if available, copies of the previous OIG reply.

Contesting record procedures:

The OIG's rules for accessing records and for contesting contents and appealing initial agency determinations are published in 32 CFR part 312 or may be obtained from the system manager.

Record source categories:

From the individuals on whom records are maintained and official records.

Exemptions claimed for the system:

During the course of a FOIA and Privacy Act action, exempt materials from other systems of records may in turn become part of the case records in this system. To the extent that copies of exempt records from those ‘other’ systems of records are entered into this FOIA or Privacy Act case record, Office of the Inspector General hereby claims the same exemptions for the records from those ‘other’ systems that are entered into this system, as claimed for the original primary systems of records which they are a part.

An exemption rule for this system has been promulgated in accordance with requirements of 5 U.S.C. 553(b)(1), (2), and (3), (c) and (e) and published in 32 CFR part 312. For additional information contact the system manager.

[FR Doc. 06-1263 Filed 2-10-06; 8:45 am]

BILLING CODE 5001-06-M